DEPARTMENT OF COMMERCE

International Trade Administration

[A-122-804, C-122-805]

Continuation of Antidumping Duty Order and Countervailing Duty Order: New Steel Rail From Canada

AGENCY: Import Administration, International Trade Administration, Department of Commerce.

ACTION: Notice of continuation of antidumping duty order and countervailing duty order: new steel rail from Canada.

SUMMARY: On December 29, and December 30, 1999, respectively, the Department of Commerce (“the Department”), pursuant to sections 751(c) and 752 of the Tariff Act of 1930, as amended (“the Act”), determined that revocation of the antidumping duty order and countervailing duty order on new steel rail from Canada would likely lead to continuation or recurrence of dumping and a countervailable subsidy (64 FR 73013 (December 29, 1999) and 64 FR 73519 (December 30, 1999), respectively). On January 26, 2000, the International Trade Commission (“the Commission”), pursuant to section 751(c) of the Act, determined that revocation of the antidumping duty order and countervailing duty order on new steel rail from Canada would be likely to lead to continuation or recurrence of material injury to an industry in the United States within a reasonably foreseeable time (65 FR 4261 (January 26, 2000)). Therefore, pursuant to 19 CFR 351.218(f)(4), the Department is publishing this notice of the continuation of the antidumping duty order and countervailing duty order on new steel rail from Canada.

DATES: February 9, 2000.

FOR FURTHER INFORMATION CONTACT: Darla D. Brown or Melissa G. Skinner, Office of Policy for Import Administration, International Trade Administration, U.S. Department of Commerce, 14th Street and Constitution Ave., NW, Washington, DC 20230; telephone: (202) 482-3207 or (202) 482-1560, respectively.

Background

On June 1, 1999, the Department initiated, and the Commission instituted, sunset reviews (64 FR 23596 and 64 FR 23677, respectively) of the antidumping duty order and countervailing duty order on new steel rail from Canada pursuant to section 751(c) of the Act. As a result of these reviews, the Department found that revocation of the antidumping duty order would likely lead to continuation or recurrence of dumping and revocation of the countervailing duty order would likely lead to continuation or recurrence of a countervailable subsidy. The Department notified the Commission of the magnitude of the margin likely to prevail, the net countervailable subsidy, and the nature of the subsidy likely to prevail were the antidumping duty order and countervailing duty order revoked.¹

¹ See Final Results of Expedited Sunset Review: New Steel Rail from Canada, 64 FR 73013 (December 29, 1999) and Final Results of Expedited Sunset Review: New Steel Rail from Canada, 64 FR 73519 (December 30, 1999) .

On January 26, 2000, the Commission determined, pursuant to section 751(c) of the Act, that revocation of the antidumping duty order and countervailing duty order would likely lead to continuation or recurrence of material injury to an industry in the United States within a reasonably foreseeable time.²

² See Steel Rails From Canada, Investigations Nos. 701-TA-297 (Review) and 731-TA-422 (Review), 65 FR 4261(January 26, 2000).

Scope

The merchandise subject to this antidumping duty order and this countervailing duty order is new steel rail, whether of carbon, high carbon, alloy or other quality steel from Canada. Subject merchandise includes, but is not limited to, standard rails, all main line sections (at least 30 kilograms per meter or 60 pounds per yard), heat-treated or head-hardened (premium) rails, transit rails, contact rails (or “third rail”) and crane rails. Rails are used by the railroad industry, by rapid transit lines, by subways, in mines, and in industrial applications.

Specifically excluded from the order are light rails (less than 30 kilograms per meter or 60 pounds per yard). Also excluded from the order are relay rails, which are used rails taken up from primary railroad track and relaid in a railroad yard or on a secondary track. As a result of a changed circumstances review in 1996, the antidumping duty order on new steel rail was partially revoked with regard to 100ARA-A new steel rail, except light rail, from Canada.³ Also, nominal 60 pounds per yard steel rail is outside the scope of this order.⁴

³ See New Steel Rail, Except Light Rail, From Canada; Final Results of Changed Circumstances Antidumping and Countervailing Duty Administrative Reviews, and Revocation in Part of Antidumping and Countervailing Duty Orders, 61 FR 11607 (March 21, 1996).

⁴ See New Steel Rail, Except Light Rail, From Canada; Notice of Termination of Changed Circumstances Administrative Reviews and Clarification of Scope Language, 63 FR 43137 (August 12, 1998).

This merchandise is currently classifiable under the Harmonized Tariff Schedule (HTS) items 7302.10.1010, 7302.10.1015, 7302.10.1035, 7302.10.1045, 7302.10.5020, 8548.90.0000.⁵ The HTS item numbers are provided for convenience and customs purposes. The written description remains dispositive.

⁵ Per conversation with April Avalone at U.S. Customs on September 7, 1999.

Determination

As a result of the determinations by the Department and the Commission that revocation of these antidumping duty and countervailing duty orders would likely lead to continuation or recurrence of dumping and a countervailable subsidy and material injury to an industry in the United States, pursuant to section 751(d)(2) of the Act, the Department hereby orders the continuation of the antidumping duty order and countervailing duty order on new steel rail from Canada. The Department will instruct the U.S. Customs Service to continue to collect deposits at the rate in effect at the time of entry for all imports of subject merchandise.

Pursuant to section 751(c)(6)(A) of the Act, the Department intends to initiate the next five-year review of these orders not later than January 2005.

Dated: February 3, 2000.
Holly A. Kuga,
Acting Assistant Secretary for Import Administration.

[FR Doc. 00-2974 Filed 2-8-00; 8:45 am]

BILLING CODE 3510-DS-P